DEPARTMENT OF JUSTICE

Office of Justice Programs

Bureau of Justice Assistance, National White Collar Crime Center; Agency Information Collection Activities: Proposed Collection; Comment Request

ACTION: Notice of information collection under review; new collection national business survey on white collar crime.

The Department of Justice, Office of Justice Programs, Bureau of Justice Assistance, National White Collar Crime Center (NWCCC) has submitted the following information collection request for review and clearance in accordance with the Paperwork Reduction Act of 1995. The proposed information collection is published to obtain comments from the public and affected agencies. Comments are encouraged and will be accepted for “sixty days” until September 18, 2000.

If you have additional comments, suggestions, or need a copy of the proposed information collection instruments with instructions, or additional information, please contact Project Director of National Business Survey on White Collar Crime, (877) 693-2874, National White Collar Crime Center, Training and Research Institute, 12 Roush Drive, Morgantown, WV 26501.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical or other technology collection techniques or other forms of information technology (e.g. permitting electronic submission of responses).

Overview of this information collection:

(1) Type of Information Collection: New Collection.

(2). Title of the Form/Collection: National Business Survey on White Collar Crime.

(3) Agency form number, if any, and the applicable component of the Department of Justice sponsoring the collection: Form = None. National White Collar Crime Center (NWCCC), Bureau of Justice Assistance, Office of Justice Programs, U.S. Department of Justice.

(4) Affected public who will be asked or required to respond, as well as a brief abstract: Primary: United States businesses. Other: None. The NWCCC Training and Research Institute anticipates conducting a national survey of professional business persons and their perceptions of white collar crime. Particular areas of interest include victimization, perpetration, prevention measures, cyber-crime, and general demographics.

(5) An estimate of the total number of respondents and the amount of time estimated for an average respondent to respond: 1,070 respondents at 25 minutes per mail survey.

(6) An estimate of the total public burden (in hours) associated with the collection: 450 annual burden hours.

If additional information is required contact: Mrs. Brenda E. Dyer, Deputy Clearance Officer, United States Department of Justice, Information Management and Security Staff, Justice Management Division, Suite 1220, National Place Building, 1331 Pennsylvania Avenue, NW., Washington, DC 20530, or via facsimile at (202) 514-1534.

Dated: July 13, 2000.
Brenda E. Dyer,
Department Deputy Clearance Officer, United States Department of Justice.

[FR Doc. 00-18124 Filed 7-17-00; 8:45 am]

BILLING CODE 4410-18-M